Title 3—

The President

Proclamation 8603 of November 18, 2010

National Family Week, 2010

By the President of the United States of America

A Proclamation

Like generations before them, today’s American families rely on their love and care for each other to face challenges. During National Family Week, we celebrate the resilient spirit of America’s families and their role in building vibrant communities and a strong Nation.

My Administration remains committed to finding solutions to the issues affecting American families. In my first year in office, I established the White House Task Force on the Middle Class, chaired by Vice President Joe Biden, which aims to protect working families’ economic security and raise their standard of living. And the continued success of the American Recovery and Reinvestment Act has created more jobs, as well as housing, educational, and child care support for families throughout the country.

This year, I was proud to sign the Affordable Care Act, which strengthens health security for families through important health insurance reforms. This landmark law allows young adults to stay on their parents’ health insurance plan until they turn 26 or have coverage through their job, requires new plans to cover recommended preventive care with no out-of-pocket costs, prohibits insurance companies from denying coverage because of a pre-existing condition, and eliminates lifetime and annual caps on dollar amounts insurance companies will spend on care. I also signed the Health Care and Education Reconciliation Act, which provides increased funding for Pell grants to help families cover the rising costs of higher education.

The strength of our families will determine our success as a Nation. Families of all kinds can provide a supportive and stable foundation to unlock the promise in each of us. These units are the building blocks of our neighborhoods and communities, shaping the development of our society, instilling values in us, and impacting our lives with their care and compassion. During this holiday season, we especially acknowledge the sacrifices of our brave service members and their families who keep our loved ones safe here at home and abroad.

This National Family Week, we recognize the importance of the family unit in helping all Americans reach their dreams. As we confront our challenges as a Nation, let us support our families in creating safe, nurturing environments for our loved ones and communities. Together, we will build a foundation for the future success of all of America’s sons and daughters.

NOW, THEREFORE, I, BARACK OBAMA, President of the United States of America, by virtue of the authority vested in me by the Constitution and the laws of the United States, do hereby proclaim November 21 through November 27, 2010, as National Family Week. I invite all States, local communities, and individuals to join in observing this week with appropriate ceremonies and activities to honor our Nation’s families.

IN WITNESS WHEREOF, I have hereunto set my hand this eighteenth day of November, in the year of our Lord two thousand ten, and of the Independence of the United States of America the two hundred and thirty-fifth.

[FR Doc. 2010-29729

Filed 11-23-10; 8:45 am]

Billing code 3195-W1-P